DEPARTMENT OF ENERGY

[Docket No. EERE-2009-BT-BC-0021]

10 CFR Part 460

RIN 1904-AC11

Appliance Standards and Rulemaking Federal Advisory Committee (ASRAC)—Manufactured Housing Working Group

AGENCY: Office of Energy Efficiency and Renewable Energy, Department of Energy.

ACTION: Notice of extension of term; and Open meetings.

SUMMARY: This notice announces a term extension for the Manufactured Housing Working Group (MH Working Group) and open meetings. More time is needed for the working group to continue negotiations towards consensus on proposed Federal standards for the energy efficiency of manufactured homes, as authorized by section 413 of the Energy Independence and Security Act of 2007 (EISA).

DATES: The Manufactured Housing working group charter will be extended until November 1, 2014.

The meetings will be held from 9:00 a.m. to 5:00 p.m.:

• October 1-2, 2014

• October 23-24, 2014

ADDRESSES: The October 1-2, 2014 meetings will be held at U.S. Department of Energy, Forrestal Building, Room GH-019, 1000 Independence Avenue SW., Washington, DC 20585. The October 23-24, 2014 meetings will be held at U.S. Department of Energy, Golden Field Office, 15013 Denver West Parkway, Golden, Colorado 80401. A room number has not yet been set for the October 23-24, 2014 meetings in Golden, CO. Once a room number is set it will be stated on the DOE Rulemaking for Manufactured Housing Energy Conservation Standards Web page at http://www.eere.energy.gov/buildings/appliance_standards/rulemaking.aspx?ruleid=97.

Individuals will also have the opportunity to participate by webinar. To register for the webinar and receive call-in information, please register at http://energy.gov/eere/buildings/appliance-standards-and-rulemaking-federal-advisory-committee.

FOR FURTHER INFORMATION CONTACT: Joe Hagerman, Senior Advisor, Building Technologies Office, EE-5B, U.S. Department of Energy (DOE), Office of Energy Efficiency and Renewable Energy, 950 L'Enfant Plaza SW., Washington, DC 20024. Phone: 202-586-4549; Email: asrac@ee.doe.gov.

SUPPLEMENTARY INFORMATION:

Background

ASRAC set a deadline of September 30, 2014 for the MH Working Group to negotiate proposed Federal standards for the energy efficiency of manufactured homes. The MH Working Group has held six public meetings between August and September, 2014.

More time is needed for the MH Working Group to continue negotiations towards consensus on proposed Federal standards for the energy efficiency of manufactured homes. ASRAC approved an extension of the term of the MH Working Group until November 1, 2014.

The MH Working Group will meet on October 1-2, 2014 and October 23-24, 2014 at the addresses provided in the ADDRESSES section. Information regarding the background of the MH Working Group and public participation in the meetings was outlined in a previous Federal Register notice published on August 15, 2014. See 79 FR 48097.

Issued in Washington, DC, on September 24, 2014.
Kathleen B. Hogan,
Deputy Assistant Secretary for Energy Efficiency, Energy Efficiency and Renewable Energy.

[FR Doc. 2014-23422 Filed 9-30-14; 8:45 am]

BILLING CODE 6450-01-P